DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 75 FR 6677, dated February 10, 2010) is amended to reflect the Order of Succession for the Centers for Disease Control and Prevention.

Section C-C, Order of Succession, is hereby amended as follows:

Delete in its entirety Section C-C, Order of Succession, and insert the following:

During the absence or disability of the Director, Centers for Disease Control and Prevention (CDC), or in the event of a vacancy in that office, the first official listed below who is available shall act as Director, except that during a planned period of absence, the Director may specify a different order of succession:

1. Principal Deputy Director

2. Director, Office of Public Health Preparedness and Response

3. Associate Director for Science

4. Director, National Institute for Occupational Safety and Health

Sherri Berger,
Chief Operating Officer, Centers for Disease Control and Prevention.

[FR Doc. 2017-19023 Filed 9-7-17; 8:45 am]

BILLING CODE 4160-18-P